DEPARTMENT OF HOMELAND SECURITY

United States Immigration and Customs Enforcement

Agency Information Collection Activities: Extension of a Currently Approved Information Collection; Comment Request

ACTION: 30-Day Notice of Information Collection under Review; Secure Communities IDENT/IAFIS Interoperability State and Local Agency Assessment; OMB Control No. 1653-0040.

The Department of Homeland Security, U.S. Immigration and Customs Enforcement (USICE), is submitting the following information collection request for review and clearance in accordance with the Paperwork Reduction Act of 1995. The information collection was previously published in the Federal Register on November 7, 2008, Vol. 73 No. 217 66249, allowing for a 60 day comment period. No comments were received on this information collection. The purpose of this notice is to allow an additional 30 days for public comments. Comments are encouraged and will be accepted for thirty days until February 13, 2009.

Written comments and suggestions from the public and affected agencies regarding items contained in this notice and especially with regard to the estimated public burden and associated response time should be directed to the Office of Information and Regulatory Affairs, Office of Management and Budget. Comments should be addressed to OMB Desk Officer, for United States Immigration and Customs Enforcement, Department of Homeland Security, and sent via electronic mail to oira_submission@omb.eop.gov or faxed to (202) 395-6974. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of currently approved information collection.

(2) Title of the Form/Collection: Secure Communities IDENT/IAFIS Interoperability State and Local Agency Assessment.

(3) Agency form number, if any, and the applicable component of the Department of Homeland Security sponsoring the collection: Form 70-003 and Form 70-004, U.S. Immigration and Customs Enforcement.

(4) Affected public who will be asked or required to respond, as well as a brief abstract: Primary: State and Local Correctional Facilities. 8 U.S.C. 1231(a) gives the Department of Homeland Security (DHS) Immigration and Customs Enforcement (ICE) authority to remove criminal aliens who have been ordered as such. DHS/ICE is improving community safety by transforming the way the federal government cooperates with state and local law enforcement agencies to identify, detain, and remove all criminal aliens held in custody. Secure Communities (SC) revolutionizes immigration enforcement by using technology to share information between law enforcement agencies and by applying risk-based methodologies to focus resources on assisting all local communities with removing high-risk criminal aliens. In order for the Secure Communities Initiative to meet its goals, ICE must collect detailed business requirements and input from its state and local law enforcement partners. ICE will interview law enforcement officials at a combined 7,000 state and local jails across the United States as part of the Secure Communities Initiative. The collection instruments are transitioning from the currently approved paper based format to the implementation of technology permitting electronic submissions of responses. This assessment determines the fingerprint procedures and technological capabilities of state and local jails governance, as well as basic jail booking statistics. This information is used in order to prioritize local sites and deliver the implementation strategy of the Secure Communities Initiative.

(5) An estimate of the total number of respondents and the amount of time estimated for an average respondent to respond: 7,000 responses at 20 minutes (0.3333333333333333 hours) per response.

(6) An estimate of the total public burden (in hours) associated with the collection: 2,334 annual burden hours.

Requests for a copy of the proposed information collection instrument, with instructions; or inquiries for additional information should be directed to: Joseph M. Gerhart, Chief, Records Management Branch, U.S. Immigration and Customs Enforcement, 500 12th Street, SW., Room 3138, Washington, DC 20024; (202) 732-6337.

Dated: January 8, 2009.
Joseph M. Gerhart,
Chief, Records Management Branch, U.S. Immigration and Customs Enforcement, Department of Homeland Security.

[FR Doc. E9-601 Filed 1-13-09; 8:45 am]

BILLING CODE 9111-28-P